DEPARTMENT OF TRANSPORTATION

National Highway Traffic Safety Administration

[Docket No. NHTSA-2013-0050]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC, area. This notice announces the date, time, and location of the meeting, which will be open to the public, as well as opportunities for public input to the NEMSAC. The purpose of NEMSAC, a nationally recognized council of emergency medical services representatives and consumers, is to advise and consult with DOT and the Federal Interagency Committee on EMS (FICEMS) on matters relating to emergency medical services (EMS).

DATES: The meeting will be held on May 16, 2013, from 8 a.m. to 5:30 p.m. EDT, and on May 17, 2013, from 8 a.m. to 12 p.m. EDT. A public comment period will take place on May 16, 2013 between 3 p.m. and 3:30 p.m. EDT and May 17, 2013 between 10 a.m. and 10:15 a.m. EDT. Written comments from the public must be received no later than May 10, 2013.

ADDRESSES: The meeting will be held at the Performance Institute on the third floor of 901 New York Avenue NW., Washington, DC 20001.

FOR FURTHER INFORMATION CONTACT: Drew Dawson, Director, U.S. Department of Transportation, Office of Emergency Medical Services, 1200 New Jersey Avenue SE., NTI-140, Washington, DC 20590, telephone number 202-366-9966; email Drew.Dawson@dot.gov.

SUPPLEMENTARY INFORMATION: Notice of this meeting is given under the Federal Advisory Committee Act, Public Law 92-463, as amended (5 U.S.C. App.). The NEMSAC is authorized under Section 31108 of the Moving Ahead with Progress in the 21st Century Act of 2012. The NEMSAC will meet on Thursday and Friday, May 16-17, 2013, at the Performance Institute on the third floor of 901 New York Avenue NW., Washington, DC 20001.

Tentative Agenda of National EMS Advisory Council Meeting, May 16-17, 2013

The tentative agenda includes the following:

Thursday, May 16, 2013 (8 a.m. to 5:30 p.m. EDT)

(1) Election of Chair and Vice-Chair

(2) Opening Remarks

(3) Disclosure of Conflicts of Interests by Members

(4) Presentation of the New NEMSAC Charter

(5) Reports from Federal Liaisons from the Departments of Transportation, Homeland Security, and Health & Human Services

(6) Presentation, Discussion and Possible Adoption of Reports and Recommendations from NEMSAC Workgroups

a. Advisory on Leadership Developmental Planning in EMS

b. NEMSAC Values and Priorities

c. Compiling Evidence to Discuss the EMS Education Agenda for the Future

d. Improving Internal NEMSAC Processes

e. Updates on NHTSA Emerging Issues in EMS White Papers

(7) Public Comment Period (3 p.m. to 3:30 p.m. EDT)

(8) Workgroup Breakout Sessions (3:30 p.m.-5:30 p.m. EDT)

Friday, May 17, 2013 (8 a.m. to 12 p.m. EDT)

(1) Unfinished Business/Continued Discussion from Previous Day

(2) Public Comment Period (10 a.m. to 10:15 a.m. EDT)

(3) Next Steps and Adjourn

On Thursday, May 16, 2013, from 3:30 p.m. to 5:30 p.m. EDT, the NEMSAC workgroups will meet in breakout sessions at the same location. These sessions are open for public attendance, but their agendas do not accommodate public comment.

Registration Information

This meeting will be open to the public; however, pre-registration is requested. Individuals wishing to attend must register online at http://events.SignUp4.com/NEMSACMay2013 no later than May 10, 2013. There will not be a teleconference option for this meeting.

Public Comment

Members of the public are encouraged to comment directly to the NEMSAC. Those who wish to make comments on Thursday, May 16, 2013, between 3 p.m. and 3:30 p.m. EDT or Friday, May 17, 2013 between 10 a.m. and 10:15 a.m. EDT are requested to register in advance. In order to allow as many people as possible to speak, speakers are requested to limit their remarks to 5 minutes. Written comments from members of the public will be distributed to NEMSAC members at the meeting and should reach the NHTSA Office of EMS no later than May 10, 2013. Written comments may be submitted by either one of the following methods: (1) You may submit comments by email: nemsac@dot.gov or (2) you may submit comments by fax: (202) 366-7149.

Special Request for Comment on the EMS Education Agenda for the Future

The NEMSAC has also requested public comment on a draft document outlining their views on the future of the EMS Education Agenda. The draft document and more information on the request for input can be found at http://ems.gov/NEMSAC-PublicInputRequest2013.htm. Comments must be submitted to nemsac@dot.gov by May 10, 2013.

A final agenda as well as meeting materials will be available to the public online through www.EMS.gov on or before May 13, 2013.

Issued on: April 23, 2013.
Jeffrey P. Michael,
Associate Administrator for Research and Program Development.

[FR Doc. 2013-09921 Filed 4-25-13; 8:45 am]

BILLING CODE 4910-59-P